DEPARTMENT OF COMMERCE

International Trade Administration

Agency Information Collection Activities; Submission to the Office of Management and Budget (OMB) for Review and Approval; Comment Request; Surveys for User Satisfaction, Impact and Needs

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 10, 2024, during a 60-day comment period. This notice allows for an additional 30 days for public comments.

Agency: International Trade Administration, Commerce.

Title: Surveys for User Satisfaction, Impact and Needs.

OMB Control Number: 0625-0275.

Form Number(s): None.

Type of Request: Renewal submission with revision to a currently approved collection.

Number of Respondents: 44,149.

Average Hours per Response: 30 minutes.

Burden Hours: 22,075.

Needs and Uses: The International Trade Administration provides a multitude of international trade related programs to help U.S. businesses. These programs include information products, services, and trade events. To accomplish its mission effectively, ITA needs ongoing feedback on its programs. This information collection instrument allows ITA to solicit customer opinions about their use of and engagement with ITA websites, programs, products, services, and events. To promote optimal use and provide focused and effective improvements to ITA programs, we are requesting approval for this clearance package; including: use of Comment Cards (i.e. transactional-based surveys) to collect feedback immediately after ITA assistance is provided to customers; use of annual surveys (i.e. relationship-based surveys) to gauge overall satisfaction, impact and needs for customers with ITA assistance provided over a period time. Without this information, ITA is unable to systematically determine the actual and relative levels of performance for its programs and products/services and to provide clear, actionable insights for managerial intervention. This information will be aggregated as part of ITA's Voice of Customer (VOC) program, an enterprise approach to analyze, report and act on customer feedback captured across key touchpoints. ITA will use this data for continued evaluation and improvement, strategic planning, allocation of resources, stakeholder reporting, and to ultimately improve customer experiences.

Affected Public: Individuals or households; Business or other for-profit organizations, Not-for-profit institutions.

Frequency: On occasion.

Respondent's Obligation: Voluntary.

Legal Authority: 15 U.S.C. 1512 et seq. and 15 U.S.C. 171 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0275.

Sheleen Dumas,
Departmental PRA Clearance Officer, Office of the Under Secretary for Economic Affairs, Commerce Department.

[FR Doc. 2024-28562 Filed 12-5-24; 8:45 am]

BILLING CODE 3510-FP-P